DEPARTMENT OF THE INTERIOR

Fish and Wildlife Service

50 CFR Part 20

RIN 1018-AT76

Migratory Bird Hunting; Early Seasons and Bag and Possession Limits for Certain Migratory Game Birds in the Contiguous United States, Alaska, Hawaii, Puerto Rico, and the Virgin Islands; Correction

AGENCY: Fish and Wildlife Service, Interior.

ACTION: Final rule; correction.

SUMMARY: The U.S. Fish and Wildlife Service (hereinafter Service or we) published a document in the August 31, 2005, Federal Register prescribing the hunting seasons, hours, areas, and daily bag and possession limits for mourning, white-winged, and white-tipped doves; band-tailed pigeons; rails; moorhens and gallinules; woodcock; common snipe; sandhill cranes; sea ducks; early (September) waterfowl seasons; migratory game birds in Alaska, Hawaii, Puerto Rico, and the Virgin Islands; and some extended falconry seasons. This document corrects errors in the season dates and other pertinent information for the States of Hawaii and Texas.

EFFECTIVE DATE: September 1, 2005.

FOR FURTHER INFORMATION CONTACT: Brian Millsap, Chief, or Ron W. Kokel, Division of Migratory Bird Management, U.S. Fish and Wildlife Service, Department of the Interior, (703) 358-1714.

SUPPLEMENTARY INFORMATION: In the August 31, 2005, Federal Register (70 FR 51946), we published a final rule prescribing hunting seasons, hours, areas, and daily bag and possession limits for mourning, white-winged, and white-tipped doves; band-tailed pigeons; rails; moorhens and gallinules; woodcock; common snipe; sandhill cranes; sea ducks; early (September) waterfowl seasons; migratory game birds in Alaska, Hawaii, Puerto Rico, and the Virgin Islands; and some extended falconry seasons. The rule contained errors in the entries for Hawaii and Texas, which are discussed briefly below and corrected by this notice.

We received public comment on the proposed rules for the seasons and limits established by the August 31 final rule. We addressed these comments in a final rule published in the August 30, 2005 (70 FR 51522), Federal Register. The corrections are typographical in nature and involve no substantial changes to the substance in the contents of the prior proposed and final rules.

In rule FR Doc. 05-17238, published August 31, 2005 (70 FR 51946), make the following corrections:

§ 20.103 [Corrected]

1. On page 51955 under the heading Texas, subheading South Zone, subheading Special Area, subheading (Special Season), subheading 12 noon to sunset, the daily bag and possession limits of “10” and “20” are corrected to read “12” and “24” both times they appear.

2. On page 51955 under the heading Hawaii, the season dates of “Dec. 1-Dec. 26” and “Dec. 30-Jan. 16” are corrected to read “Dec. 2-Dec.26” and “Dec. 31-Jan. 16”.

Dated: September 8, 2005.
Sara Prigan,
Fish and Wildlife Service Federal Register Liaison.

[FR Doc. 05-18282 Filed 9-14-05; 8:45 am]

BILLING CODE 4310-55-P